DEPARTMENT OF HEALTH AND HUMAN SERVICES

Privacy Act of 1974; Report of a New System of Records

AGENCY: Department of Health and Human Services (HHS).

ACTION: Notice of a New System of Records.

SUMMARY: In accordance with the requirements of the Privacy Act of 1974, the U.S. Department of Health & Human Services (HHS) is proposing to establish a new system of records (SOR) titled “Early Retirement Reinsurance Program (ERRP),” System No. 09-90-0250. Under authority of Section 1102 of the Patient Protection and Affordable Care Act (the Affordable Care Act) (Pub. L. 111-148) the Early Retiree Reinsurance Program is established. The program provides reimbursement to participating employment-based plans for a portion of the cost of health benefits for early retirees and their spouses, surviving spouses and dependents. The system will collect and maintain information on individuals associated with plan sponsors who perform key tasks on behalf of the sponsor in order for the sponsor to participate in and receive reimbursement under the program. The system will also collect and maintain information on early retirees, and their spouses, etc., so that sponsors' eligibility to receive reimbursement for the claims of such specific individuals can be verified. The system will also collect and maintain information related to the documentation of actual medical costs of claims for health benefits submitted to the Department, to ensure accurate reimbursement under the program.

The purpose of this system is to collect and maintain information on individuals who are early retirees (and spouses, etc.) such that sponsors' eligibility to receive reimbursement for the claims of such specific individuals can be verified, to collect and maintain information on individuals who are associated with plan sponsors who perform key tasks on behalf of the sponsor, so that the sponsor can participate in and get reimbursement under the program, and to collect and maintain documentation of the actual costs of medical claims, so that accurate and timely reimbursements may be made to plan sponsors who continue to offer qualifying health benefits to early retirees (and spouses, etc.). Information maintained in this system will also be disclosed to: (1) Support regulatory, reimbursement, and policy functions performed by an HHS contractor, consultant or grantee; (2) assist another Federal or State agency, agency of a State government, an agency established by State law, or its fiscal agent; (3) support litigation involving the Department; (4) combat fraud and abuse in certain health benefits programs; and (5) assist efforts to respond to a suspected or confirmed breach of the security or confidentiality of information maintained in this system of records. We have provided background information about the modified system in the “Supplementary Information” section below. Although the Privacy Act requires only that HHS provide an opportunity for interested persons to comment on the proposed routine uses, HHS invites comments on all portions of this notice. See “Effective Dates” section for comment period.

DATES: Effective Dates: HHS filed a new system report with the Chair of the House Committee on Government Reform and Oversight, the Chair of the Senate Committee on Homeland Security & Governmental Affairs, and the Administrator, Office of Information and Regulatory Affairs, Office of Management and Budget (OMB) on May 19, 2010. To ensure that all parties have adequate time in which to comment, the new system, including routine uses, will become effective 30 days from the publication of the notice, or 40 days from the date it was submitted to OMB and Congress, whichever is later, unless HHS receives comments that require alterations to this notice.

ADDRESSES: The public should address comments to: HHS Privacy Officer, Office of the Secretary, Office of the Assistant Secretary for Public Affairs (ASPA), Freedom of Information/Privacy Acts Division, 330 “C” Street, SW., Washington, DC 20201. Telephone number: (202) 690-7453. Comments received will be available for review at this location, by appointment, during regular business hours, Monday through Friday from 9 a.m.-3 p.m., Eastern Time zone.

FOR FURTHER INFORMATION CONTACT: David Mlawsky, Office of Consumer Information and Insurance Oversight (OCIIO), Office of the Secretary, Department of Health and Human Services. He can be reached at (410) 786-6851, or contact via e-mail at David.Mlawsky@cms.hhs.gov.

SUPPLEMENTARY INFORMATION: Rising costs have made it more difficult for employers to provide quality, affordable health insurance for workers and retirees. People in the early retiree age group often face difficulties obtaining insurance in the individual market because of age or chronic conditions that make coverage unaffordable and inaccessible. The program provides needed financial help for employer-based plans to continue to provide valuable coverage to plan participants.

Section 1102(a)(2)(B) of the Affordable Care Act defines “employment-based plan” to include a group benefits plan providing health benefits that is maintained by private employers, State or local governments, employee organizations, voluntary employees' beneficiary association, a committee or board of individuals appointed to administer such plan, or a multiemployer plan (as defined by Employee Retirement Income Security Act, or ERISA). Section 1102 does not differentiate between health benefits provided by self-funded plans or through the purchase of insurance.

The statute at section 1102(a)(2)(C) defines “early retirees” as individuals who are age 55 and older but are not eligible for coverage under Medicare, and who are not active employees of an employer maintaining, or currently contributing to, the employment-based plan or of any employer that has made substantial contributions to fund such plan. The definition of early retiree in the program's implementing regulation at 45 CFR 149.2 clarifies that spouses, surviving spouses, and dependents are also included in the definition of early retiree. This definition accommodates the language in section 1102(a)(1) of the statute, which states that reimbursement under the program is made to cover a portion of the costs of providing health coverage to early retirees and to the eligible spouses, surviving spouses, and dependents of such retirees. Reimbursement can be made under the program for the health benefit costs of eligible spouses, surviving spouses, and dependents of such retirees, even if they are under the age of 55, and/or are eligible for Medicare.

When submitting claims for reimbursement, employment-based plans (or their insurers) will submit documentation of the actual costs of the medical claims, indicating the health benefit provided, the provider or supplier, the incurred date, the individual for whom the health benefit was provided, the date and amount of payment net any known negotiated price concessions, and the employment-based plan and benefit option under which the health benefit was provided.

The Congress appropriated funding of $5 billion for the temporary program. The Secretary will reimburse plans 80 percent of the costs for health benefits for valid claims between $15,000 and $90,000 (with those amounts being indexed for plan years starting on or after October 1, 2011). Section 1102(a)(1) required the Secretary to establish this temporary program not later than 90 days after enactment of the statute, which is June 21, 2010. The Secretary has established an effective date of June 1, 2010. The program ends no later than January 1, 2014.

I. Description of the Proposed System of Records

A. Statutory and Regulatory Basis for System

Authority for the collection, maintenance, and disclosures from this system is given under provisions of § 1102 of the Affordable Care Act and its implementing regulations codified at Title 45 Code of Federal Regulations (CFR) Part 149.

B. Collection and Maintenance of Data in the System

Information in this system is maintained on early retirees and their spouses, surviving spouses, and dependents that are enrolled in employment-based plans that participate in the program. Information maintained in this system includes, but is not limited to, first name, last name, middle initial, date of birth, Social Security Number (SSN), gender, standard data for identification such as Plan Sponsor Identification Number, Application Identification Number, Benefit Option Identifier, and relationship to early retiree.

Information in this system is also maintained on individuals associated with plan sponsors who perform key tasks on behalf of the sponsor, so that the sponsor can participate in and get reimbursement under the program. Information maintained in the system regarding these individuals includes, but is not limited to, standard data for identification such as Plan Sponsor Identification Number, Application Identification Number, Benefit Option Identifier, the individual's first name, middle initial, last name, job title, date of birth, social security number, e-mail address, telephone number, fax number, employer name, and business address. When submitting claims to the Department for reimbursement, employment-based plans (or their insurers) will submit documentation of the actual costs of the medical claims, including the health benefit provided, the provider or supplier, the incurred date, the individual for whom the health benefit was provided, the date and amount of payment net any known negotiated price concessions, and the employment-based plan and benefit option under which the health benefit was provided. Thus, such information is maintained in this system.

II. Agency Policies, Procedures, and Restrictions on Routine Uses

A. The Privacy Act permits us to disclose information without an individual's consent if the information is to be used for a purpose that is compatible with the purpose(s) for which the information was collected. Any such disclosure of data is known as a “routine use.” The government will only release ERRP information that can be associated with an individual as provided for under “Section III. Proposed Routine Use Disclosures of Data in the System.” Both identifiable and non-identifiable data may be disclosed under a routine use.

We will only disclose the minimum personal data necessary to achieve the purpose of ERRP. HHS has the following policies and procedures concerning disclosures of information that will be maintained in the system. In general, disclosure of information from the system will be approved only for the minimum information necessary to accomplish the purpose of the disclosure and only after HHS:

1. Determines that the use or disclosure is consistent with the reason that the data is being collected, e.g., to collect, maintain, and process information necessary to effectively and efficiently administer the ERRP;

2. Determines that:

a. The purpose for which the disclosure is to be made can only be accomplished if the record is provided in individually identifiable form;

b. The purpose for which the disclosure is to be made is of sufficient importance to warrant the effect and/or risk on the privacy of the individual that additional exposure of the record might bring; and

c. There is a strong probability that the proposed use of the data would in fact accomplish the stated purpose(s).

3. Requires the information recipient to:

a. Establish administrative, technical, and physical safeguards to prevent unauthorized use of disclosure of the record;

b. Remove or destroy at the earliest time all individually-identifiable information; and

c. Agree to not use or disclose the information for any purpose other than the stated purpose under which the information was disclosed.

4. Determines that the data are valid and reliable.

III. Proposed Routine Use Disclosures of Data in the System

A. Entities Who May Receive Disclosures Under Routine Use

These routine uses specify circumstances, in addition to those provided by statute in the Privacy Act of 1974, under which HHS may release information from the ERRP without the consent of the individual to whom such information pertains. Each proposed disclosure of information under these routine uses will be evaluated to ensure that the disclosure is legally permissible, including but not limited to ensuring that the purpose of the disclosure is compatible with the purpose for which the information was collected. We propose to establish the following routine use disclosures of information maintained in the system:

1. To support HHS contractors, consultants, or HHS grantees who have been engaged by HHS to assist in accomplishment of an HHS function relating to the purposes for this SOR and who need to have access to the records in order to assist HHS.

We contemplate disclosing information under this routine use only in situations in which HHS may enter into a contractual or similar agreement with a third party to assist in accomplishing an HHS function relating to purposes for this SOR.

HHS occasionally contracts out certain of its functions when doing so would contribute to effective and efficient operations. HHS will give a contractor, consultant, or HHS grantee the information necessary for the contractor or consultant to fulfill its duties. In these situations, safeguards are provided in the contract prohibiting the contractor, consultant, or grantee from using or disclosing the information for any purpose other than that described in the contract and requires the contractor, consultant, or grantee to return or destroy all information at the completion of the contract. Contractors are also required to provide the appropriate management, operational, and technical controls to secure the data.

2. To assist another Federal or State agency, agency of a State government, an agency established by State law, or its fiscal agent pursuant to agreements with HHS to:

a. Contribute to the accuracy of HHS”s reimbursement to sponsors under the ERRP;

b. Enable such agency to administer a Federal health benefits program, or as necessary to enable such agency to fulfill a requirement of a Federal statute or regulation that implements a health benefits program funded in whole or in part with Federal funds, and/or

c. Assist Federal/State Medicaid programs which may require ERRP information for purposes related to this system.

Other Federal or State agencies in their administration of a Federal health program may require ERRP information in order to support evaluations and monitoring of claims information of beneficiaries, including proper reimbursement for services provided.

3. To support the Department of Justice (DOJ), court, or adjudicatory body when:

a. The Department or any component thereof, or

b. Any employee of HHS in his or her official capacity, or

c. Any employee of HHS in his or her individual capacity where the DOJ has agreed to represent the employee, or

d. The United States Government, is a party to litigation or has an interest in such litigation, and by careful review, HHS determines that the records are both relevant and necessary to the litigation and that the use of such records by the DOJ, court or adjudicatory body is compatible with the purpose for which the agency collected the records.

Whenever HHS is involved in litigation, or occasionally when another party is involved in litigation and HHS's policies or operations could be affected by the outcome of the litigation, HHS would be able to disclose information to the DOJ, court, or adjudicatory body involved.

4. To assist an HHS contractor (including, but not limited to fiscal intermediaries and carriers) that assists in the administration of an HHS-administered health benefits program, or to a grantee of an HHS-administered grant program, when disclosure is deemed reasonably necessary by HHS to prevent, deter, discover, detect, investigate, examine, prosecute, sue with respect to, defend against, correct, remedy, or otherwise combat fraud, waste or abuse in such program.

We contemplate disclosing information under this routine use only in situations in which HHS may enter into a contract or grant with a third party to assist in accomplishing HHS functions relating to the purpose of combating fraud, waste or abuse.

HHS occasionally contracts out certain of its functions when doing so would contribute to effective and efficient operations. HHS must be able to give a contractor or grantee whatever information is necessary for the contractor or grantee to fulfill its duties. In these situations, safeguards are provided in the contract prohibiting the contractor or grantee from using or disclosing the information for any purpose other than that described in the contract and requiring the contractor or grantee to return or destroy all information.

5. To assist another Federal agency or to an instrumentality of any governmental jurisdiction within or under the control of the United States (including any State or local governmental agency), that administers, or that has the authority to investigate potential fraud, waste or abuse in a health benefits program funded in whole or in part by Federal funds, when disclosure is deemed reasonably necessary by HHS to prevent, deter, discover, detect, investigate, examine, prosecute, sue with respect to, defend against, correct, remedy, or otherwise combat fraud, waste or abuse in such programs.

Other agencies may require ERRP information for the purpose of combating fraud, waste or abuse in such Federally-funded programs.

6. To assist appropriate Federal agencies and Department contractors that have a need to know the information for the purpose of assisting the Department's efforts to respond to a suspected or confirmed breach of the security or confidentiality of information maintained in this system of records, and the information disclosed is relevant and unnecessary for the assistance.

Other agencies may require ERRP information for the purpose of assisting the Department's efforts to respond to a suspected or confirmed breach of the security or confidentiality of information maintained in this system of records.

B. Additional Circumstances Affecting Routine Use Disclosures

Our policy will be to prohibit release even of data not directly identifiable, except pursuant to one of the routine uses or if required by law, if we determine there is a possibility that an individual can be identified through implicit deduction based on small cell sizes (instances where the patient population is so small that individuals could, because of the small size, use this information to deduce the identity of the individual).

IV. Safeguards

HHS has safeguards in place for authorized users and monitors such users to ensure against unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal and HHS policies and standards as they relate to information security and data privacy. These laws and regulations include but are not limited to: The Privacy Act of 1974; the Federal Information Security Management Act of 2002; the Computer Fraud and Abuse Act of 1986; the E-Government Act of 2002, and the Clinger-Cohen Act of 1996; OMB Circular A-130, Management of Federal Resources, Appendix III, Security of Federal Automated Information Resources also applies. Federal and HHS policies and standards include but are not limited to: All pertinent National Institute of Standards and Technology publications; and the HHS Information Systems Program Handbook.

V. Effects of the New System on the Rights of Individuals

HHS proposes to establish this system in accordance with the principles and requirements of the Privacy Act and will collect, use, and disseminate information only as prescribed therein. We will only disclose the minimum personal data necessary to achieve the purpose of ERRP. Disclosure of information from the system will be approved only to the extent necessary to accomplish the purpose of the disclosure. HHS has assigned a higher level of security clearance for the information maintained in this system in an effort to provide added security and protection of data in this system.

HHS will take precautionary measures to minimize the risks of unauthorized access to the records and the potential harm to individual privacy or other personal or property rights. HHS will collect only that information necessary to perform the system's functions. In addition, HHS will make disclosure from the proposed system only with consent of the subject individual, or his/her legal representative, or in accordance with an applicable exception provision of the Privacy Act.

HHS, therefore, does not anticipate an unfavorable effect on individual privacy as a result of the disclosure of information relating to individuals.

Dated: May 20, 2010.
Jay Angoff,
Director Office of Consumer Information and Insurance Oversight.

SYSTEM NUMBER: 09-90-0250

SYSTEM NAME:

“Early Retirement Reinsurance Program (ERRP),” OCIIO, OS/HHS.

SECURITY CLASSIFICATION:

Level Three Privacy Act Sensitive.

SYSTEM LOCATION:

Office of Consumer Information and Insurance Oversight, U.S. Department of Health & Human Services, 200 Independence Avenue, SW., Suite 738F, Washington, DC 20201.

CATEGORIES OF INDIVIDUALS COVERED BY THE SYSTEM:

Information in this system is maintained on individuals associated with plan sponsors who perform key tasks on behalf of the sponsor, so that the sponsor can participate in and get reimbursement under the program. Information in this system is also maintained on early retirees and their spouses, surviving spouses, and dependents that are enrolled in employment-based plans that participate in the program. With respect to medical claims submitted by plan sponsors for reimbursement, information in this system is maintained on early retirees and their spouses, surviving spouses, and dependents with respect to those medical claims, including the health benefit provided, the provider or supplier, the incurred date, the individual for whom the health benefit was provided, the date and amount of payment net any known negotiated price concessions, and the employment-based plan and benefit option under which the health benefit was provided.

CATEGORIES OF RECORDS IN THE SYSTEM:

Information in this system is maintained on early retirees and their spouses, surviving spouses, and dependents that are enrolled in employment-based plans that participate in the program. Information maintained in this system includes, but is not limited to, first name, last name, middle initial, date of birth, Social Security Number (SSN), gender, standard data for identification such as Plan Sponsor Identification Number, Application Identification Number, Benefit Option Identifier, and relationship to early retiree. Information in this system is maintained on individuals associated with plan sponsors who perform key tasks on behalf of the sponsor, so that the sponsor can participate in and get reimbursement under the program. Information maintained in the system regarding these individuals includes, but is not limited to, standard data for identification such as Plan Sponsor Identification Number, Application Identification Number, Benefit Option Identifier, the individual's first name, middle initial, last name, job title, date of birth, social security number, e-mail address, telephone number, fax number, employer name, and business address. With respect to medical claims submitted by plan sponsors for reimbursement, information in this system is maintained on early retirees and their spouses, surviving spouses, and dependents with respect to those medical claims, including the health benefit provided, the provider or supplier, the incurred date, the individual for whom the health benefit was provided, the date and amount of payment net any known negotiated price concessions, and the employment-based plan and benefit option under which the health benefit was provided.

AUTHORITY FOR MAINTENANCE OF THE SYSTEM:

Authority for the collection, maintenance, and disclosures from this system is given under provisions of § 1102 of the Affordable Care Act and its implementing regulations codified at Title 45 Code of Federal Regulations (CFR) Part 149.

PURPOSE(S) OF THE SYSTEM:

The purpose of this system is to collect and maintain information on individuals who are early retirees (and spouses, etc.), to collect and maintain information on individuals who are associated with plan sponsors who perform key tasks on behalf of the sponsor, and to collect and maintain information on medical claims submitted to the U.S. Department of Health & Human Services (HHS) for reimbursement, so that accurate and timely reimbursements may be made to plan sponsors who continue to offer qualifying health benefits to such individuals. Information maintained in this system will also be disclosed to: (1)Support regulatory, reimbursement, and policy functions performed by an HHS contractor, consultant or grantee; (2) assist another Federal or State agency, agency of a State government, an agency established by State law, or its fiscal agent; (3) support litigation involving the Department; (4) combat fraud and abuse in certain health benefits programs; and (5) assist efforts to respond to a suspected or confirmed breach of the security or confidentiality of information maintained in this system of records.

ROUTINE USES OF RECORDS MAINTAINED IN THE SYSTEM, INCLUDING CATEGORIES OR USERS AND THE PURPOSES OF SUCH USES:

B. Entities Who May Receive Disclosures Under Routine Use

These routine uses specify circumstances, in addition to those provided by statute in the Privacy Act of 1974, under which HHS may release information from the ERRP without the consent of the individual to whom such information pertains. Each proposed disclosure of information under these routine uses will be evaluated to ensure that the disclosure is legally permissible, including but not limited to ensuring that the purpose of the disclosure is compatible with the purpose for which the information was collected. We propose to establish or modify the following routine use disclosures of information maintained in the system:

1. To support Agency contractors, consultants, or HHS grantees who have been engaged by the Agency to assist in accomplishment of an HHS function relating to the purposes for this SOR and who need to have access to the records in order to assist HHS.

2. To assist another Federal or State agency, agency of a State government, an agency established by State law, or its fiscal agent pursuant to agreements with HHS to:

a. Contribute to the accuracy of HHS's reimbursement to sponsors under the ERRP,

b. Enable such agency to administer a Federal health benefits program, or as necessary to enable such agency to fulfill a requirement of a Federal statute or regulation that implements a health benefits program funded in whole or in part with Federal funds, and/or

c. Assist Federal/State Medicaid programs which may require ERRP information for purposes related to this system.

3. To the Department of Justice (DOJ), court, or adjudicatory body when:

b. The Agency or any component thereof, or

e. Any employee of the Agency in his or her official capacity, or

f. Any employee of the Agency in his or her individual capacity where the DOJ has agreed to represent the employee, or

g. The United States Government, is a party to litigation or has an interest in such litigation, and by careful review, HHS determines that the records are both relevant and necessary to the litigation and that the use of such records by the DOJ, court or adjudicatory body is compatible with the purpose for which the agency collected the records.

4. To assist an HHS contractor (including, but not limited to fiscal intermediaries and carriers) that assists in the administration of an HHS-administered health benefits program, or to a grantee of an HHS-administered grant program, when disclosure is deemed reasonably necessary by HHS to prevent, deter, discover, detect, investigate, examine, prosecute, sue with respect to, defend against, correct, remedy, or otherwise combat fraud, waste or abuse in such program.

5. To assist another Federal agency or to an instrumentality of any governmental jurisdiction within or under the control of the United States (including any State or local governmental agency), that administers, or that has the authority to investigate potential fraud, waste or abuse in a health benefits program funded in whole or in part by Federal funds, when disclosure is deemed reasonably necessary by HHS to prevent, deter, discover, detect, investigate, examine, prosecute, sue with respect to, defend against, correct, remedy, or otherwise combat fraud, waste or abuse in such programs.

6. To appropriate Federal agencies and Department contractors that have a need to know the information for the purpose of assisting the Department's efforts to respond to a suspected or confirmed breach of the security or confidentiality of information disclosed is relevant and necessary for that assistance.

C. Additional Circumstances Affecting Routine Use Disclosures

Our policy will be to prohibit release even of data not directly identifiable, except pursuant to one of the routine uses or if required by law, if we determine there is a possibility that an individual can be identified through implicit deduction based on small cell sizes (instances where the patient population is so small that individuals could, because of the small size, use this information to deduce the identity of the beneficiary).

POLICIES AND PRACTICES FOR STORING, RETRIEVING, ACCESSING, RETAINING, AND DISPOSING OF RECORDS IN THE SYSTEM:

STORAGE:

We will be storing records in hardcopy files and various electronic storage media (including DB2, Oracle, and other relational data structures).

RETRIEVABILITY:

Information is most frequently retrieved by first name, last name, middle initial, date of birth, or Social Security Number (SSN).

SAFEGUARDS:

HHS has safeguards in place for authorized users and monitors such users to ensure against unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal, HHS, and HHS policies and standards as they relate to information security and data privacy. These laws and regulations include but are not limited to: The Privacy Act of 1974; the Federal Information Security Management Act of 2002; the Computer Fraud and Abuse Act of 1986; the E-Government Act of 2002, and the Clinger-Cohen Act of 1996. OMB Circular A-130, Management of Federal Resources, Appendix III, Security of Federal Automated Information Resources also applies. Federal, HHS, and HHS policies and standards include but are not limited to: all pertinent National Institute of Standards and Technology publications; and the HHS Information Systems Program Handbook. HHS will give a contractor, consultant, or HHS grantee the information necessary for the contractor or consultant to fulfill its duties. In these situations, safeguards are provided in the contract prohibiting the contractor, consultant, or grantee from using or disclosing the information for any purpose other than that described in the contract and requires the contractor, consultant, or grantee to return or destroy all information at the completion of the contract. Contractors are also required to provide the appropriate management, operational, and technical controls to secure the data.

RETENTION AND DISPOSAL:

Records are maintained with identifiers for all transactions after they are entered into the system for a period of 10 years. Records are housed in both active and archival files in accordance with HHS data and document management policies and standards. All sponsor applications, claims, and other program-related records are encompassed by the document preservation order and will be retained until notification is received from the Department of Justice.

SYSTEM MANAGER AND ADDRESS:

David Gardner, Acting Director, Early Retiree Reinsurance Division, Office of Insurance Programs, Office of Consumer Information and Insurance Oversight, U.S. Department of Health & Human Services, 200 Independence Avenue, SW., Suite 738F, Washington, DC 20201.

NOTIFICATION PROCEDURE:

For purpose of notification, the subject individual should write to the system manager who will require the system name, and the retrieval selection criteria (e.g., name, SSN, etc.).

RECORD ACCESS PROCEDURE:

For purpose of access, use the same procedures outlined in Notification Procedures above. Requestors should also reasonably specify the record contents being sought. (These procedures are in accordance with Department regulation 45 CFR 5b.5(a)(2)).

CONTESTING RECORD PROCEDURES:

The subject individual should contact the system manager named above, and reasonably identify the record and specify the information to be contested. State the corrective action sought and the reasons for the correction with supporting justification. (These procedures are in accordance with Department regulation 45 CFR 5b.7).

RECORD SOURCE CATEGORIES:

Record source categories include program participants, individuals on whose behalf reimbursements are being sought, and those who voluntarily submit data and personal information for the ERRP program.

SYSTEMS EXEMPTED FROM CERTAIN PROVISIONS OF THE ACT:

None.

[FR Doc. 2010-13178 Filed 6-2-10; 8:45 am]

BILLING CODE 4150-65-P